DEPARTMENT OF LABOR

Mine Safety and Health Administration

Petitions for Modification

This notice amends a petition for modification of application of an existing standard to add information to a notice published in the Federal Register on November 12, 2003 (68 FR 64129), pertaining to the Consol Pennsylvania Coal Company. On October 17, 2003, Consol Pennsylvania Coal Company filed a petition for modification for existing safety standard 30 CFR 75.507 (Power connection points) for the Enlow Fork Mine, to permit non-permissible submersible pumps to be installed in bleeder and return entries and sealed areas of the Mine. On December 2, 2003, the petitioner filed an amendment requesting that the above-referenced petition for modification also apply to the Bailey Mine. Publication of this document provides notice that the petition for modification applies to the Enlow Fork Mine and the Bailey Mine. The petitioner asserts that the proposed alternative method would provide at least the same measure of protection as the existing standard.

Dated in Arlington, Virginia this 8th day of July 2004.
Marvin W. Nichols, Jr.,
Director, Office of Standards, Regulations, and Variances.

[FR Doc. 04-15845 Filed 7-12-04; 8:45 am]

BILLING CODE 4510-43-P